DEPARTMENT OF EDUCATION

Office of Elementary and Secondary Education; Overview Information, Early Childhood Educator Professional Development (ECEPD) Program; Notice Inviting Applications for New Awards for Fiscal Year (FY) 2006

Catalog of Federal Domestic Assistance (CFDA) Number: 84.349A

Dates:

Applications Available: February 6, 2006.

Deadline for Transmittal of Applications: April 7, 2006.

Deadline for Intergovernmental Review: June 6, 2006.

Eligible Applicants: A partnership that has not previously received an ECEPD grant and that consists of at least one entity from each of the following categories:

(i) One or more institutions of higher education, or other public or private entities (including faith-based organizations), that provide professional development for early childhood educators who work with children from low-income families in high-need communities.

(ii) One or more public agencies (including local educational agencies, State educational agencies, State human services agencies, and State and local agencies administering programs under the Child Care and Development Block Grant Act of 1990), Head Start agencies, or private organizations (including faith-based organizations).

(iii) If feasible, an entity with demonstrated experience in providing training to educators in early childhood education programs concerning identifying and preventing behavior problems or working with children identified as or suspected to be victims of abuse. This entity may be one of the partners described in paragraphs (i) and (ii) under Eligible Applicants.

A partnership may apply for these funds only if one of the partners currently provides professional development for early childhood educators working in programs located in high-need communities with children from low-income families.

Estimated Available Funds: $14,330,800.

Estimated Range of Awards: $2,400,000-$4,800,000.

Estimated Average Size of Awards: $3,600,000.

Estimated Number of Awards: 3-6 awards.

Note: The Department is not bound by any estimates in this notice.

Project Period: Up to 36 months.

Full Text of Announcement

I. Funding Opportunity Description

Purpose of Program: The purpose of the ECEPD program is to enhance the school readiness of young children, particularly disadvantaged young children, and to prevent them from encountering difficulties once they enter school, by improving the knowledge and skills of early childhood educators who work in communities that have high concentrations of children living in poverty.

Projects funded under the ECEPD program provide high-quality, sustained, and intensive professional development for these early childhood educators in how to provide developmentally appropriate school-readiness services for preschool-age children that are based on the best available research on early childhood pedagogy and on child development and learning. For these grants, increased emphasis is being placed on the quality of program evaluations for the proposed projects.

The specific activities for which recipients may use grant funds are identified in the application package.

Priorities

This competition includes one absolute priority, a competitive preference priority and two invitational priorities that are as follows.

Absolute Priority: For FY 2006 this priority is an absolute priority. In accordance with 34 CFR 75.105(b)(2)(iv), this priority is from section 2151(e)(5)(A) of the Elementary and Secondary Education Act of 1965, as amended (ESEA), 20 U.S.C. 6651(e)(5)(A). Under 34 CFR 75.105(c)(3) we consider only applications that meet this priority. This priority is:

High-Need Communities

The applicant partnership, if awarded a grant, shall use the grant funds to carry out activities that will improve the knowledge and skills of early childhood educators who are working in early childhood programs that are located in “high-need communities.”

An eligible applicant must demonstrate in its application how it meets the statutory requirement in section 2151(e)(5)(A) of the ESEA by including relevant demographic and socioeconomic data about the “high-need community” in which each program is located, as indicated in the application package. (See section 2151(e)(3)(B)(i) of the ESEA.)

“High-need community,” as defined in section 2151(e)(9)(B) of the ESEA, means—

(a) A political subdivision of a State, or a portion of a political subdivision of a State, in which at least 50 percent of the children are from low-income families; or

(b) A political subdivision of a State that is among the 10 percent of political subdivisions of the State having the greatest numbers of such children.

Note: The following additional terms used in or related to this absolute priority have statutory definitions that are included in the application package: “early childhood educator,” “low-income family,” and “professional development.”

Competitive Preference Priority: For FY 2006, this priority is a competitive preference priority. This priority is from the notice of final priority for Scientifically Based Evaluation Methods, published in the Federal Register on January 25, 2005 (70 FR 3586), available at http://www.ed.gov/legislation/FedRegister/finrule/2005-1/012505a.html. Under 34 CFR 75.105(c)(2)(i), we award up to an additional 20 points to an application, depending on how well the application meets this priority. These points are in addition to any points the application earns under the selection criteria.

When using the priority to give competitive preference to an application, the Secretary will review applications using a two-stage process. In the first stage, the application will be reviewed without taking the priority into account. In the second stage of review, the applications rated highest in stage one will be reviewed for competitive preference. We consider awarding additional (competitive preference) points only to those applicants with top-ranked scores on their selection criteria.

This priority is:

Scientifically Based Evaluation Methods

The Secretary establishes a priority for projects proposing an evaluation plan that is based on rigorous scientifically based research methods to assess the effectiveness of a particular intervention, as described in the following paragraphs. The Secretary intends that this priority will allow program participants and the Department to determine whether the project produces meaningful effects on student achievement or teacher performance.

Evaluation methods using an experimental design are best for determining project effectiveness. Thus, when feasible, the project must use an experimental design under which participants—e.g., students, teachers, classrooms, or schools—are randomly assigned to participate in the project activities being evaluated or to a control group that does not participate in the project activities being evaluated.

If random assignment is not feasible, the project may use a quasi-experimental design with carefully matched comparison conditions. This alternative design attempts to approximate a randomly assigned control group by matching participants—e.g., students, teachers, classrooms, or schools—with non-participants having similar pre-program characteristics.

In cases where random assignment is not possible and participation in the intervention is determined by a specified cutting point on a quantified continuum of scores, regression discontinuity designs may be employed.

For projects that are focused on special populations in which sufficient numbers of participants are not available to support random assignment or matched comparison group designs, single-subject designs such as multiple baseline or treatment-reversal or interrupted time series that are capable of demonstrating causal relationships can be employed.

Proposed evaluation strategies that use neither experimental designs with random assignment nor quasi-experimental designs using a matched comparison group nor regression discontinuity designs will not be considered responsive to the priority when sufficient numbers of participants are available to support these designs. Evaluation strategies that involve too small a number of participants to support group designs must be capable of demonstrating the causal effects of an intervention or program on those participants.

The proposed evaluation plan must describe how the project evaluator will collect—before the project intervention commences and after it ends—valid and reliable data that measure the impact of participation in the program or in the comparison group.

If the priority is used as a competitive preference priority, points awarded under this priority will be determined by the quality of the proposed evaluation method. In determining the quality of the evaluation method, we will consider the extent to which the applicant presents a feasible, credible plan that includes the following:

(1) The type of design to be used (that is, random assignment or matched comparison). If matched comparison, include in the plan a discussion of why random assignment is not feasible.

(2) Outcomes to be measured.

(3) A discussion of how the applicant plans to assign students, teachers, classrooms, or schools to the project and control group or match them for comparison with other students, teachers, classrooms, or schools.

(4) A proposed evaluator, preferably independent, with the necessary background and technical expertise to carry out the proposed evaluation. An independent evaluator does not have any authority over the project and is not involved in its implementation.

In general, depending on the implemented program or project, under a competitive preference priority, random assignment evaluation methods will receive more points than matched comparison evaluation methods.

Definitions

As used in this notice—

Scientifically based research (section 9101(37) of the ESEA as amended by NCLB, 20 U.S.C. 7801(37)):

(A) Means research that involves the application of rigorous, systematic, and objective procedures to obtain reliable and valid knowledge relevant to education activities and programs; and

(B) Includes research that—

(i) Employs systematic, empirical methods that draw on observation or experiment;

(ii) Involves rigorous data analyses that are adequate to test the stated hypotheses and justify the general conclusions drawn;

(iii) Relies on measurements or observational methods that provide reliable and valid data across evaluators and observers, across multiple measurements and observations, and across studies by the same or different investigators;

(iv) Is evaluated using experimental or quasi-experimental designs in which individuals entities, programs, or activities are assigned to different conditions and with appropriate controls to evaluate the effects of the condition of interest, with a preference for random-assignment experiments, or other designs to the extent that those designs contain within-condition or across-condition controls;

(v) Ensures that experimental studies are presented in sufficient detail and clarity to allow for replication or, at a minimum, offer the opportunity to build systematically on their findings; and

(vi) Has been accepted by a peer-reviewed journal or approved by a panel of independent experts through a comparably rigorous, objective, and scientific review.

Random assignment or experimental design means random assignment of students, teachers, classrooms, or schools to participate in a project being evaluated (treatment group) or not participate in the project (control group). The effect of the project is the difference in outcomes between the treatment and control groups.

Quasi-experimental designs include several designs that attempt to approximate a random assignment design.

Carefully matched comparison groups design means a quasi-experimental design in which project participants are matched with non-participants based on key characteristics that are thought to be related to the outcome.

Regression discontinuity design means a quasi-experimental design that closely approximates an experimental design. In a regression discontinuity design, participants are assigned to a treatment or control group based on a numerical rating or score of a variable unrelated to the treatment such as the rating of an application for funding. Eligible students, teachers, classrooms, or schools above a certain score (“cut score”) are assigned to the treatment group and those below the score are assigned to the control group. In the case of the scores of applicants' proposals for funding, the “cut score” is established at the point where the program funds available are exhausted.

Single subject design means a design that relies on the comparison of treatment effects on a single subject or group of single subjects. There is little confidence that findings based on this design would be the same for other members of the population.

Treatment reversal design means a single subject design in which a pre-treatment or baseline outcome measurement is compared with a post-treatment measure. Treatment would then be stopped for a period of time, a second baseline measure of the outcome would be taken, followed by a second application of the treatment or a different treatment. For example, this design might be used to evaluate a behavior modification program for disabled students with behavior disorders.

Multiple baseline design means a single subject design to address concerns about the effects of normal development, timing of the treatment, and amount of the treatment with treatment-reversal designs by using a varying time schedule for introduction of the treatment and/or treatments of different lengths or intensity.

Interrupted time series design means a quasi-experimental design in which the outcome of interest is measured multiple times before and after the treatment for program participants only.

Invitational Priorities: For FY 2006 these priorities are invitational priorities. Under 34 CFR 75.105(c)(1) we do not give an application that meets these invitational priorities a competitive or absolute preference over other applications.

These priorities are:

Invitational Priority 1—English Language Acquisition Plan

For applicants serving children with limited English proficiency, the Secretary is especially interested in applications that include a specific plan for the development of English language acquisition for these children from the start of their preschool experience. The ECEPD program is designed to prepare children to enter kindergarten with the necessary cognitive, early language, and literacy skills for success in school. School success often is dependent on each child entering kindergarten being as proficient as possible in English so that the child is ready to benefit from formal reading instruction in English when the child starts school.

The English language acquisition plan should, at a minimum: (1) Include a description of the approach for the development of language, based on the linguistic factors or skills that serve as the foundation for a strong language base, which is a necessary precursor for success in the development of pre-literacy and literacy skills for children with limited English proficiency; (2) explain the acquisition strategies, based on best available valid and reliable research, that the applicant will use to address English language acquisition in a multi-lingual classroom; (3) describe how the project will facilitate the children's transition to English proficiency by means such as the use of environmental print in appropriate multiple languages, and hiring bilingual teachers, paraprofessionals, or translators to work in the preschool classroom; (4) include intensive professional development for instructors and paraprofessionals on the development of English language proficiency; and (5) include a timeline that describes benchmarks for the introduction of the development of English language proficiency and the use of measurement tools.

Ideally, at least one instructional staff member in each ECEPD classroom should be dual-language proficient both in a child's first language and in English to facilitate the child's understanding of instruction and transition to English proficiency. At a minimum, each classroom should include a teacher who is proficient in English.

Invitational Priority 2—Classroom Curricula and Teacher Professional Development

The Secretary is especially interested in applications that focus the professional development that will be provided for early childhood educators on the specific curricula promoting young children's school readiness in the areas of language and cognitive development and early reading and numeracy skills that are being used in those educators' early childhood programs, and on the research base supporting that curricula. In addition to being based on scientifically based research, the curricula should have standardized training procedures and published curriculum materials to support implementation by the early childhood educators. The chosen curricula should include a scope and sequence of skills and content with concrete instructional goals that are designed to promote early language, reading, and numeracy skills.

The need for rigorous preschool curricula is driven by the national focus on high-quality preschool experiences that prepare children for formal reading instruction in the elementary grades. The professional development in the ECEPD program provides opportunities for the program participants to achieve greater understanding of the implementation of scientifically based curricula that focus on early language, reading, and numeracy skills of young children. Grantees should focus on assisting the early childhood educators to implement fully the selected curricula and measuring learning outcomes for the children taught by those educators.

Program Authority: 20 U.S.C. 6651(e).

Applicable Regulations: (a) The Education Department General Administrative Regulations (EDGAR) in 34 CFR parts 74, 75, 77, 79, 80, 81, 82, 84, 85, 86, 97, 98, and 99, as applicable. (b) The notice of final priority for Scientifically Based Evaluation Methods, published in the Federal Register on January 25, 2005 (70 FR 3586).

Note: The regulations in 34 CFR part 79 apply to all applicants except federally recognized Indian tribes. Note: The regulations in 34 CFR part 86 apply to institutions of higher education only.

II. Award Information

Type of Award: Discretionary grant.

Estimated Available Funds: $14,330,800.

Estimated Range of Awards: $2,400,000-$4,800,000.

Estimated Average Size of Awards: $3,600,000.

Estimated Number of Awards: 3-6 awards.

Note: The Department is not bound by any estimates in this notice.

Project Period: Up to 36 months.

III. Eligibility Information

1. Eligible Applicants: A partnership that has not previously received an ECEPD grant and that consists of at least one entity from each of the following categories:

(i) One or more institutions of higher education, or other public or private entities (including faith-based organizations), that provide professional development for early childhood educators who work with children from low-income families in high-need communities.

(ii) One or more public agencies (including local educational agencies, State educational agencies, State human services agencies, and State and local agencies administering programs under the Child Care and Development Block Grant Act of 1990), Head Start agencies, or private organizations (including faith-based organizations).

(iii) If feasible, an entity with demonstrated experience in providing training to educators in early childhood education programs concerning identifying and preventing behavior problems or working with children identified as or suspected to be victims of abuse. This entity may be one of the partners described in paragraphs (i) and (ii) under Eligible Applicants.

A partnership may apply for these funds only if one of the partners currently provides professional development for early childhood educators working in programs located in high-need communities with children from low-income families.

2. Cost Sharing or Matching: Each partnership that receives a grant under this program must provide (1) at least 50 percent of the total cost of the project for the entire grant period; and (2) at least 20 percent of the project cost for each year. The project may provide these funds from any source, other than this program, including other Federal sources. The partnership may satisfy these cost-sharing requirements by providing contributions in cash or in-kind, fairly evaluated, including plant, equipment, and services. Only allowable costs may be counted as part of the grantee's share. For example, any indirect costs over and above the allowable amount may not be counted toward a grantee's share. For additional information about indirect costs, see section IV.5. Funding Restrictions of this notice.

IV. Application and Submission Information

1. Address to Request Application Package: You may obtain an application package via the Internet or from the Education Publications Center (ED Pubs). To obtain an application via the Internet, use the following Web address: http://www.ed.gov/programs/eceducator/index.html.

To obtain a copy from ED Pubs, write or call the following: Education Publications Center, P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.349A.

Individuals with disabilities may obtain a copy of the application package in an alternative format (e.g., Braille, large print, audiotape, or computer diskette) by contacting the program contact person listed in section VII of this notice.

2. Content and Form of Application Submission: Requirements concerning the content of the application, together with the forms you must submit, are in the application package for this competition.

Page Limits: The application narrative for this program (Part III of the application) is where you, the applicant, address the selection criteria that reviewers use to evaluate your application. You must limit Part III of the application to the equivalent of no more than 30 typed pages. Part IV of the application is where you, the applicant, provide a budget narrative that reviewers use to evaluate your application. You must limit the budget narrative in Part IV of the application to the equivalent of no more than 5 typed pages. Part V of the application is where you, the applicant, include the Appendices described later in this section, including any response to the Competitive Preference Priority—Scientifically Based Evaluation Methods. You must limit any response to the Competitive Preference Priority to no more than 3 typed pages.

For all page limits, use the following standards:

• A “page” is 8.5″ x 11″, on one side only, with 1″ margins at the top, bottom, and both sides.

• Double space (no more than three lines per vertical inch) all text in the application and budget narratives, including titles, headings, footnotes, quotations, references, and captions. Text in tables, charts, or graphs, and the limited Appendices, may be single spaced.

• Use a font that is either 12-point or larger or no smaller than 10 pitch (characters per inch). You may use other point fonts for any tables, charts, graphs, and the limited Appendices, but those tables, charts, graphs and limited Appendices should be in a font size that is easily readable by the reviewers of your application.

• Any tables, charts, or graphs are included in the overall narrative page limit. The limited Appendices, including the partnership agreement required as a group agreement under 34 CFR 75.128, and any Competitive Preference Priority response, are not part of the overall narrative page limits.

• Appendices are limited to the following: Absolute Priority Form (required); partnership agreement (required); any response to the Competitive Preference Priority; and any position descriptions (and resumes or curriculum vitae if available) of key personnel (including key contract personnel and consultants).

Other application materials are limited to the specific materials indicated in the application package, and may not include any video or other non-print materials.

Our reviewers will not read any pages of your application that—

• Exceed the page limits if you apply these standards; or

• Exceed the equivalent of the page limits if you apply other standards.

3. Submission Dates and Times.

Applications Available: February 6, 2006.

Deadline for Transmittal of Applications: April 7, 2006. Applications for grants under this program must be submitted electronically using the Grants.gov Apply site (Grants.gov). For information (including dates and times) about how to submit your application electronically or by mail or hand delivery if you qualify for an exception to the electronic submission requirement, please refer to section IV.6. Other Submission Requirements in this notice.

We do not consider an application that does not comply with the deadline requirements.

Deadline for Intergovernmental Review: June 6, 2006.

4. Intergovernmental Review: This program is subject to Executive Order 12372 and the regulations in 34 CFR part 79. Information about Intergovernmental Review of Federal Programs under Executive Order 12372 is in the application package for this competition.

5. Funding Restrictions:

(a) Indirect Costs. For purposes of indirect cost charges, the Secretary considers all ECEPD program grants to be “educational training grants” within the meaning of section 75.562(a) of EDGAR. Consistent with 34 CFR 75.562, the indirect cost rate for any fiscal agent other than a State agency or agency of local government (such as a local educational agency or a federally recognized Indian tribal government) is limited to a maximum of eight percent or the amount permitted by the fiscal agent's negotiated indirect cost rate agreement, whichever is less. This indirect cost limit applies to cost-type contracts only if those contracts are for educational training as defined in 34 CFR 75.562. Further information about indirect cost rates is in the application package for this competition.

(b) Pre-award Costs. For FY 2006 the Secretary approves, under sections 75.263 and 74.25(e)(1) of EDGAR, pre-award costs incurred by recipients of ECEPD grants more than 90 calendar days before the grant award. Specifically, the Secretary approves necessary and reasonable pre-award costs incurred by grant recipients for up to 90 days before the application deadline date. These pre-award costs must be related to the needs assessment that applicants conduct under section 2151(e)(3)(B)(iii) of the ESEA before submitting their applications to determine the most critical professional development needs of the early childhood educators to be served by the project and in the broader community.

Applicants incur any pre-award costs at their own risk. The Secretary is under no obligation to reimburse these costs if for any reason the applicant does not receive an award or if the award is less than anticipated and inadequate to cover these costs.

We reference additional regulations outlining funding restrictions in the Applicable Regulations section of this notice.

6. Other Submission Requirements. Applications for grants under this competition must be submitted electronically unless you qualify for an exception to this requirement in accordance with the instructions in this section.

a. Electronic Submission of Applications.

Applications for grants under the ECEPD program-CFDA 84.349A must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the ECEPD program at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf. You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), the Absolute Priority Form and all necessary assurances and certifications and required and optional Appendices. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues With the Grants.gov System

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement

You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date. Address and mail or fax your statement to: Rosemary V. Fennell, U.S. Department of Education, 400 Maryland Avenue, SW., Room 3C122, FB-6, Washington, DC 20202-6132. Fax: (202) 260-7764.

Your paper application must be submitted in accordance with the mail or hand delivery instructions described in this notice.

b. Submission of Paper Applications by Mail.

If you qualify for an exception to the electronic submission requirement, you may mail (through the U.S. Postal Service or a commercial carrier), your application to the Department. You must mail the original and two copies of your application, on or before the application deadline date, to the Department at the applicable following address:

By mail through the U.S. Postal Service: U.S. Department of Education, Application Control Center, Attention: CFDA Number 84.349A, 400 Maryland Avenue, SW., Washington, DC 20202-4260. or

By mail through a commercial carrier: U.S. Department of Education, Application Control Center—Stop 4260, Attention: CFDA Number 84.349A, 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: CFDA Number 84.349A, 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of the Application for Federal Education Assistance (ED 424) the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from section 75.210 of EDGAR. The maximum score for all the selection criteria is 100 points. The maximum score for each criterion is indicated in parentheses. Each criterion also includes the factors that the reviewers will consider in determining how well an application meets the criterion. The selection criteria are as follows:

(a) Need for project (10 points).

(1) The Secretary considers the need for the proposed project.

(2) In determining the need for the proposed project, the Secretary considers the following factor:

(i) The extent to which the proposed project will focus on serving or otherwise addressing the needs of disadvantaged individuals.

(b) Significance (10 points). The Secretary considers the significance of the proposed project. In determining the significance of the proposed project, the Secretary considers the following factors:

(i) The importance or magnitude of the results or outcomes likely to be attained by the proposed project, especially improvements in teaching and student achievement.

(ii) The extent to which the proposed project is likely to build local capacity to provide, improve, or expand services that address the needs of the target population.

(c) Quality of the project design (20 points). The Secretary considers the quality of the design of the proposed project. In determining the quality of the design of the proposed project, the Secretary considers the following factors:

(i) The extent to which the proposed activities constitute a coherent, sustained program of training in the field.

(ii) The extent to which the design of the proposed project reflects up-to-date knowledge from research and effective practice.

(d) Quality of project services (10 points). The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers the following factors:

(i) The extent to which the services to be provided by the proposed project are appropriate to the needs of the intended recipients or beneficiaries of those services.

(ii) The extent to which the training or professional development services to be provided by the proposed project are of sufficient quality, intensity, and duration to lead to improvements in practice among the recipients of those services.

(e) Quality of project personnel (10 points). The Secretary considers the quality of the personnel who will carry out the proposed project. In determining the quality of project personnel, the Secretary considers the extent to which the applicant encourages applications for employment from persons who are members of groups that have been traditionally underrepresented based on race, color, national origin, gender, age, or disability. In addition, the Secretary considers the following factors:

(i) The qualifications, including relevant training and experience, of key project personnel.

(ii) The qualifications, including relevant training and experience, of project consultants or subcontractors.

(f) Quality of the management plan (10 points). The Secretary considers the quality of the management plan for the proposed project. In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(g) Quality of the project evaluation (25 points). The Secretary considers the quality of the evaluation to be conducted of the proposed project. In determining the quality of the evaluation, the Secretary considers the following factors:

(i) The extent to which the methods of evaluation are thorough, feasible, and appropriate to the goals, objectives, and outcomes of the proposed project.

(ii) The extent to which the methods of evaluation will provide performance feedback and permit periodic assessment or progress toward achieving intended outcomes.

(h) Adequacy of Resources (5 points). The Secretary considers the adequacy of resources for the proposed project. In determining the adequacy of resources for the proposed project, the Secretary considers the following factors:

(i) The extent to which the costs are reasonable in relation to the objectives, design, and potential significance of the proposed project.

(ii) The potential for continued support of the project after Federal funding ends, including, as appropriate, the demonstrated commitment of appropriate entities to such support.

2. Review and Selection Process: An additional factor we consider in selecting an application for an award is geographical distribution (section 2151(e)(4)(B) of the ESEA).

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. For specific requirements on grantee reporting, please go to: http://www.ed.gov/fund/grant/apply/appforms/appforms.html.

4. Performance Measures: For FY 2006, grants under the ECEPD program will be governed by the achievement indicators that the Secretary published in the Federal Register on March 31, 2003 (68 FR 15646-15648). These achievement indicators are included in the application package.

In addition, in response to the Government Performance and Results Act of 1993 (GPRA), the Department has established performance measures for assessing the effectiveness of the ECEPD program, which are coordinated with the achievement indicators and are included in the application package. The coordination of these achievement indicators and performance measures is designed to improve program management, and to help Congress, the Department, the Office of Management and Budget, and others review a program's progress toward its goals. For FY 2006 ECEPD grants, the Secretary expects all grantees to document, in the required annual performance report their success in addressing the GPRA performance measures through the following assessment tools: The Early Language and Literacy Classroom Observation (ELLCO); the Peabody Picture Vocabulary Test-III (Receptive); and the PALS Pre-K Alphabet Knowledge-Upper Case subtask. The applicant's evaluation design provided in response to the selection criterion for Quality of project evaluation in section V.1. of this notice should include the use of these assessment tools, at a minimum.

VII. Agency Contact

For Further Information Contact: Rosemary Fennell, U.S. Department of Education, 400 Maryland Avenue SW., Room 3C-122, Washington, DC 20202-6132. Telephone: (202) 260-0792, or by e-mail: eceprofdev@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 27, 2006.
Henry L. Johnson,
Assistant Secretary for Elementary and Secondary Education.

[FR Doc. 06-937 Filed 1-31-06; 8:45 am]

BILLING CODE 4000-01-P